SECURITIES AND EXCHANGE COMMISSION

[File No. 500-1]

In the Matter of: Queénch, Inc.; Order of Suspension of Trading

March 19, 2004.

It appears to the Securities and Exchange Commission that there is a lack of current and accurate information concerning the securities of Queénch, Inc. (“Queénch”) because of questions regarding the accuracy and adequacy of assertions by Queénch, and by others, in press releases to investors, concerning, among other things:

(1) Vendor contracts between Queénch and Time-Warner, Inc., 7-Eleven, Disney World Property-Grosvenor Resorts and others;

(2) The “exclusive distribution” of Queénch products through Sysco Food Service;

(3) The launching of Queénch's new distribution channel covering the 700 islands of the Bahamas; and

(4) The accuracy of Queénch's published financial information.

The Commission is of the opinion that the public interest and the protection of investors require a suspension of trading in securities related to the above company.

Therefore, it is ordered, pursuant to section 12(k) of the Securities Exchange Act of 1934, that trading in all securities, as defined in section 3(a)(10) of the Securities Exchange Act of 1934, issued by the above company, is suspended for the period from 9:30 a.m. EST on March 19, 2004 and terminating at 11:59 p.m. EST on April 1, 2004.

By the Commission.
J. Lynn Taylor,
Assistant Secretary.

[FR Doc. 04-6572 Filed 3-19-04; 1:30 pm]

BILLING CODE 8010-01-P